DEPARTMENT OF COMMERCE

National Oceanic and Atmospheric Administration

[I.D. 032701A]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Mackerel Stock Assessment Panel (MSAP).

DATES: This meeting will begin at 1:30 p.m. on Monday, April 16, 2001, and will conclude by 5 p.m. on Wednesday, April 18, 2001.

ADDRESSES: The meeting will be held at NMFS Southeast Fisheries Science Center, 75 Virginia Beach Drive, Miami, FL.

FOR FURTHER INFORMATION CONTACT: Dr. Richard Leard, Senior Fishery Biologist, Gulf of Mexico Fishery Management Council; telephone: 813-228-2815.

SUPPLEMENTARY INFORMATION: The MSAP will convene to review stock assessment updates for Gulf and Atlantic group king and Spanish mackerel. The MSAP will consider available information, including but not limited to, commercial and recreational catches, natural and fishing mortality estimates, recruitment, fishery-dependent and fishery-independent data, bycatch and bycatch mortality, and data needs. These analyses will be used to determine the condition of the stocks and possibly the levels of acceptable biological catch (ABC) for the 2001-02 fishing year. The MSAP may also review estimates/proxies for maximum sustainable yield (MSY), overfishing and overfished definitions, management targets, and rebuilding schedules.

Although non-emergency issues not contained in the agenda may come before the MSAP for discussion, in accordance with the Magnuson-Stevens Fishery Conservation and Management Act (MSFCMA), those issues may not be the subject of formal MSAP action during this meeting. MSAP action will be restricted to those issues specifically identified in this notice and any issues arising after publication of this notice that require emergency action under section 305 (c) of the MSFCMA, provided the public has been notified of the Council’s intent to take final action to address the emergency. A copy of the MSAP agenda can be obtained by calling (813) 228-2815.

Special Accommodations

This meeting is physically accessible to people with disabilities. Requests for sign language interpretation or other auxiliary aids should be directed to Anne Alford at the Council (see ADDRESSES) by April 9, 2001.

Dated: March 27, 2001.
Richard W. Surdi,
Acting Director, Office of Sustainable Fisheries, National Marine Fisheries Service.

[FR Doc. 01-8052 Filed 3-30-01; 8:45 am]

BILLING CODE 3510-22-S